DEPARTMENT OF THE INTERIOR

Fish and Wildlife Service

[FWS-R4-R-2008-N0184; 40136-1265-0000-S3]

Swanquarter National Wildlife Refuge, Hyde County, NC; Correction

AGENCY: Fish and Wildlife Service, Interior.

ACTION: Notice of availability: draft comprehensive conservation plan and environmental assessment; request for comments; correction.

SUMMARY: We, the U.S. Fish and Wildlife Service, published a Federal Register notice announcing the availability of a draft comprehensive conservation plan and environmental assessment (Draft CCP/EA) for Swanquarter National Wildlife Refuge (NWR) for public review and comment. This notice contained an error in the e-mail address we provided for public review and comment. We now correct the e-mail address.

SUPPLEMENTARY INFORMATION: On July 3, 2008, we published a notice announcing the availability of a Draft CCP/EA for Swanquarter NWR for public review and comment (73 FR 38242). This notice contained an error in the e-mail address we provided for the public to use to send us comments on the Draft CCP/EA.

In notice document E8-15117, on page 38242 of the issue of July 3, 2008, make the following correction:

On page 38242, in the second column, the ADDRESSES section should read:

ADDRESSES: Requests for copies of the Draft CCP/EA should be addressed to: Bruce Freske, Refuge Manager, Swanquarter National Wildlife Refuge, 38 Mattamuskeet Road, Swan Quarter, NC 27885. The Draft CCP/EA may also be accessed and downloaded from the Service's Internet Site: http://southeast.fws.gov/planning.

Comments on the Draft CCP/EA may be submitted to the above address or via electronic mail to Bruce_Freske@fws.gov.

Dated: July 8, 2008.
Sara Prigan,
Federal Register Liaison.

[FR Doc. E8-15917 Filed 7-10-08; 8:45 am]

BILLING CODE 4310-55-P